DEPARTMENT OF HOMELAND SECURITY

Coast Guard

33 CFR Part 100

[Docket No. USCG-2008-0321]

Special Local Regulation; Thunderboat Regatta; Mission Bay, San Diego, CA

AGENCY: Coast Guard, DHS.

ACTION: Notice of enforcement of regulation.

SUMMARY: The Coast Guard will enforce the Thunderboat Regatta special local regulation in Fiesta Bay of Mission Bay, San Diego from 7:30 a.m. on September 19, 2008 through 5:30 p.m. on September 21, 2008. This action is necessary to provide for the safety of the participants, crew, spectators, participating vessels, and other vessels and users of the waterway. During the enforcement period, no person or vessel may enter the special local regulation without permission of the Captain of the Port or his designated representative.

DATES: The regulations in 33 CFR 100.1101 will be enforced from 7:30 a.m. on September 19, 2008 through 5:30 p.m. on September 21, 2008.

FOR FURTHER INFORMATION CONTACT: Petty Officer Kristen Beer, USCG, Waterways Management, U.S. Coast Guard Sector San Diego at (619) 278-7233.

SUPPLEMENTARY INFORMATION: The Coast Guard will enforce the special local regulation for the Thunderboat Regatta in 33 CFR 100.1101 on September 19, 2008, from 7:30 a.m. to 5:30 p.m., September 20, 2008, from 7:30 a.m. to 5:30 p.m., and September 21, 2008, from 7:30 a.m. to 5:30 p.m.

Under the provisions of 33 CFR 100.1101, a vessel may not enter the regulated area, unless it receives permission from the COTP. Spectator vessels may safely transit outside the regulated area but may not anchor, block, loiter in, or impede the transit of participants or official patrol vessels. The Coast Guard may be assisted by other Federal, State, or local law enforcement agencies in enforcing this regulation.

This notice is issued under authority of 33 CFR 100.1101(a) and 5 U.S.C. 552 (a). In addition to this notice in the Federal Register, the Coast Guard will provide the maritime community with extensive advance notification of this enforcement period via the Local Notice to Mariners, marine information broadcasts, local radio stations and area newspapers. If the COTP or his designated representative determines that the regulated area need not be enforced for the full duration stated in this notice, he or she may use a Broadcast Notice to Mariners to grant general permission to enter the regulated area.

Dated: 8 June 2008.
C.V. Strangfeld,
Captain, U.S. Coast Guard, Captain of the Port San Diego.

[FR Doc. E8-14047 Filed 6-20-08; 8:45 am]

BILLING CODE 4910-15-P